DEPARTMENT OF HOUSING AND URBAN DEVELOPMENT

[Docket No. FR-5831-N-38]

60-Day Notice of Proposed Information Collection: CDBG-DR Expenditure Deadline Extension Request Template (Pub. L. 113-2 Grantees Only)

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: August 31, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette Pollard@hud or telephone 202-402-3400. This is not a toll-free number. Persons with hearing or speech impairments may access this number through TTY by calling the toll-free Federal Relay Service at (800) 877-8339.

Copies of available documents submitted to OMB may be obtained from Ms. Colette Pollard.

SUPPLEMENTARY INFORMATION: This notice informs the public that HUD is seeking approval from OMB for the information collection described in Section A. The Federal Register notice that solicited public comment on the information collection for a period of 60 days was published on May 27, 2015 at 80 FR 30626.

A. Overview of Information Collection

Title of Information Collection: CDBG-DR Expenditure Deadline Extension Request Template (Pub. L. 113-2 Grantees Only).

OMB Approval Number: 2506-0206.

Type of Request: Extension of currently approved collection.

Form Number: NA.

Description of the need for the information and proposed use: This information collection is being conducted by the Office of Community Planning and Development, Office of Block Grant Assistance to assist the Secretary of HUD in determining, as required by section 904(c) under Title IX of the Disaster Relief Appropriations Act, 2013 (Pub. L. 113-2, enacted January 29, 2013), whether to grant extensions of the twenty-four month expenditure deadline for grantees (Entitlement communities, States and units of general local governments) receiving funds under the Act.

Respondents: Entitlement communities, Nonprofits, States and units of general local governments with Community Development Block Grant (CDBG) disaster recovery grants pursuant to the Disaster Relief Appropriations Act, 2013 (Pub. L. 113-2). Thirty-four (34) CDBG-DR grantees are held to the 24-month requirement and are thus eligible to submit information through this template to request an extension.

Estimated Number of Respondents: See Chart 1.

Estimated Number of Responses: See Chart 1.

Frequency of Response: See Chart 1.

Average Hours per Response: See Chart 1.

Total Estimated Burdens: See Chart 1.

Chart 1—2-Year Expenditure Deadline Extension Request
Information collection | Number of respondents | Frequency of response | Total responses | Burden hour per response | Total burden hours | Hourly cost per response | Total cost
CDBG-DR Expenditure Deadline Extension Request Template (P. L. 113-2 Grantees Only) | 34 | 3 | 102 | 24 | 2,448 | $24.34 | $59,584.32

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 24, 2015.
Colette Pollard,
Department Reports Management Officer, Office of the Chief Information Officer.

[FR Doc. 2015-18829 Filed 7-30-15; 8:45 am]

BILLING CODE 4210-67-P